DEPARTMENT OF DEFENSE

Defense Acquisition Regulations System

48 CFR Parts 201, 213, 217, 225, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective June 26, 2015.

FOR FURTHER INFORMATION CONTACT: Ms. Amy G. Williams, Defense Acquisition Regulations System, OUSD(AT&L)DPAP(DARS), Room 3B941, 3060 Defense Pentagon, Washington, DC 20301-3060. Telephone 571-372-6106; facsimile 571-372-6094.

SUPPLEMENTARY INFORMATION: This final rule amends the DFARS as follows:

1. Directs contracting officers to additional DFARS Procedures, Guidance, and Information (PGI) by adding references at—

• DFARS 201.301(b) to PGI 201.301(b);

• DFARS 201.304(4) to PGI 201.304(4);

• DFARS 201.304(5) to PGI 201.304(5); and

• DFARS 252.103 to PGI 252.103.

2. Corrects a cross reference in DFARS 213.500-70.

3. Removes a reference to DoDI 4000.19, Support Agreements, at DFARS 217.500, since the instruction (see paragraph 2.b.(1)) no longer applies to interagency assisted acquisitions.

4. Updates an address at DFARS 225.870-4(a) for the Canadian Commercial Corporation.

5. Removes an obsolete cross reference to PGI at DFARS 225.7002-2(b)(4).

6. Corrects two hyperlinks in DFARS clause 252.213-7000, Notice to Prospective Suppliers on Use of Past Performance Information Retrieval System—Statistical Reporting in Past Performance Evaluations.

List of Subjects in 48 CFR Parts 201, 213, 217, 225, and 252

Government procurement.

Amy G. Williams,
Editor, Defense Acquisition Regulations System.

Therefore, 48 CFR parts 201, 213, 217, 225, and 252 are amended as follows:

1. The authority citation for 48 CFR parts 201, 213, 217, 225, and 252 continues to read as follows:

Authority: 41 U.S.C. 1303 and 48 CFR chapter 1.

PART 201—FEDERAL ACQUISITION REGULATIONS SYSTEM

2. Revise section 201.301(b) to read as follows:

201.301 Policy.

* * * * *

(b) When Federal Register publication is required for any policy, procedure, clause, or form, the department or agency requesting Under Secretary of Defense (Acquisition, Technology, and Logistics) (USD(AT&L)) approval for use of the policy, procedure, clause, or form (see 201.304(1)) must include an analysis of the public comments in the request for approval. Information on determining when a clause requires publication in the Federal Register and approval in accordance with 201.304(1) is provided at PGI 201.301(b).

3. Revise section 201.304, paragraphs (4) and (5), to read as follows:

201.304 Agency control and compliance procedures.

* * * * *

(4) Each department and agency must develop and, upon approval by OUSD(AT&L)DPAP, implement, maintain, and comply with a plan for controlling the use of clauses other than those prescribed by FAR or DFARS. Additional information on department and agency clause control plan requirements is available at PGI 201.304(4).

(5) Departments and agencies must submit requests for the Secretary of Defense, USD(AT&L), and OUSD(AT&L)DPAP approvals required by this section through the Director of the DAR Council. Procedures for requesting approval of department and agency clauses are provided at PGI 201.304(5).

* * * * *

PART 213—SIMPLIFIED ACQUISITION PROCEDURES

213.500-70 [Amended]

4. Amend section 213.500-70 by removing “PGI”.

PART 217—SPECIAL CONTRACTING METHODS

217.500 [Amended]

5. Amend section 217.500 by removing “FAR Subpart 17.5, this subpart, and DoDI 4000.19 apply” and adding “FAR subpart 17.5 and this subpart apply” in its place.

PART 225—FOREIGN ACQUISITION

225.870-4 [Amended]

6. Amend section 225.870-4 by removing “11th Floor, 50 O'Connor Street, Ottawa, Ontario, Canada, K1A-0S6” and adding “350 Albert Street, Suite 700, Ottawa, ON K1R 1A4” in its place.

225.7002-2 [Amended]

7. Amend section 225.7002-2 by removing paragraph (b)(4).

PART 252—SOLICITATION PROVISIONS AND CONTRACT CLAUSES

8. Add section 252.103 to subpart 252.1 to read as follows:

252.102 Identification of provisions and clauses.

For guidance on numbering department or agency provisions and clauses, see PGI 252.103.

252.213-7000 [Amended]

9. Amend section 252.213-7000 by—

a. Removing the clause date “(MAY 2015)” and adding “(JUN 2015)” in its place;

b. In paragraph (d)—

i. Removing “https://www.ppirs.gov/ppirsfiles/pdf/PPIRS-SR_UserMan.pdf” and adding “https://www.ppirs.gov/pdf/PPIRS-SR_UserMan.pdf” in its place; and

ii. Removing “http://www.ppirs.gov/ppirsfiles/reference.htm” and adding “https://www.ppirs.gov/pdf/PPIRS-SR_DataEvaluationCriteria.pdf” in its place.

[FR Doc. 2015-15639 Filed 6-25-15; 8:45 am]

BILLING CODE 5001-06-P